ENVIRONMENTAL PROTECTION AGENCY

[EPA-R07-RCRA-2021-0665; FRL-9126-01-R7]

Kansas: Notice of Modification to Kansas' Research, Development and Demonstration (RD&D) Permit Provisions for Municipal Solid Waste Landfills (MSWLF)

AGENCY: Environmental Protection Agency (EPA).

ACTION: Notice.

SUMMARY: On May 10, 2016, EPA issued a revision to the regulations allowing Research, Development and Demonstration (RD&D) permits to increase the number of permit renewals allowed to six, for a total permit term of up to 21 years. On October 19, 2016, Kansas Department of Health and Environment (KDHE) submitted a notification to EPA Region 7 regarding a modification by policy to its RD&D program. EPA acknowledges receipt of Kansas' notification regarding a modification to its RD&D program, and that Kansas' notification meets the requirements set forth in the Federal Register document that published on May 10, 2016.

DATES: The modification to the Kansas RD&D permit program will become applicable on November 16, 2021.

FOR FURTHER INFORMATION CONTACT: Marcus G. Rivas, U.S. EPA Region 7 Land, Chemicals and Redevelopment Division; 11201 Renner Boulevard, Lenexa, Kansas 66219, (913) 551-7669, rivas.marcus@epa.gov.

SUPPLEMENTARY INFORMATION:

A. Background

On March 22, 2004, EPA issued a final rule amending the Municipal Solid Waste Landfills (MSWLF) criteria in 40 CFR part 258 to allow for RD&D permits (69 FR 13242). This rule allows for variances from specified criteria for a limited period of time, to be implemented through state-issued RD&D permits. RD&D permits are available only in states with approved MSWLF permit programs that have been modified to incorporate RD&D permit authority. On May 10, 2016, the EPA issued a revision to the regulations allowing RD&D permits to increase the number of permit renewals allowed to six, for a total permit term of up to 21 years (40 CFR 258.4).

While states are not required to incorporate this new RD&D permit provision into their previous approved MSWLF program, those states interested in increasing the total length of time for which RD&D permits can be issued, from 12 years to 21 years, must provide notification to EPA in accordance with 40 CFR part 239.

On September 4, 2009, Kansas received approval of its RD&D permit program (74 FR 45769). Kansas' RD&D provisions can be found in Kansas Statutes Annotated (K.S.A.) Chapter 65—Public Health, Article 34—Solid Waste and Kansas Administrative Regulations (K.A.R.), Agency 28—Kansas Department of Health and Environment, Article 29—Solid Waste Management. On October 19, 2016, KDHE submitted a notification to EPA Region 7 of its modification of its RD&D program through policy, increasing the total length of time for which RD&D permits can be issued from 12 years to 21 years as described in the Federal Register document that published on May 10, 2016, (81 FR 28720) and at 40 CFR 239.12.

B. EPA Acknowledgment of Notification

In today's Federal Register document, EPA acknowledges receipt of the notification provided by Kansas of its modification by policy in increasing the total length of time for which RD&D permits can be issued from 12 years to 21 years, and that Kansas' notification meets the requirements set forth at 81 FR 28720 and 40 CFR 239.12.

Authority: This action is issued under the authority of section 2002, 4005 and 4010(c) of the Solid Waste Disposal Act, as amended, 40 U.S.C. 6912, 6945 and 6949(a).

Dated: November 8, 2021.
Edward H. Chu,
Acting Regional Administrator, Region 7.

[FR Doc. 2021-24947 Filed 11-15-21; 8:45 am]

BILLING CODE 6560-50-P